DEPARTMENT OF TRANSPORTATION

Federal Aviation Administration

Notice Before Waiver With Report to Land at Hamilton Municipal Airport, Hamilton, New York

AGENCY: Federal Aviation Administration (FAA), DOT.

ACTION: Notice of intent of waiver with respect to land.

SUMMARY: The FAA is publishing notice of the proposed release of approximately 10 acres of land in two parcels, a 5.5 acre tract and a 4.5 acre tract, at Hamilton Municipal Airport to allow their sale for the non-aviation development. The 5.5 acre parcel is proposed to house a single-story 30,000 square foot professional photography studio. A 15,000 square foot, single-story private health care facility is proposed on the 4.5 acre tract. Both of these land parcels are adjacent to New York State Route 12B.

There are no impacts to the Airport and the land is not needed for airport development as shown on the Airport Layout Plan. The Fair Market Value of the land will be paid to the Airport Sponsor, and used for the maintenance, operation and capital development of the airport.

Any comments the agency receives will be considered as a part of the decision.

DATES: Comments must be received on September 21, 2001.

ADDRESSES: Comments on this application may be mailed or delivered in triplicate to the FAA at the following address: Philip Brito, Manager, FA New York Airports District Office, 600 Old Country Road, Suite 446, Garden City, New York 11530.

In addition, one copy of any comments submitted to the FAA must be mailed or delivered to Mr. Charles Getchonis, Mayor, Village of Hamilton, at the following address: Mayor Charles Getchonis, Village of Hamilton, 3 Broad Street, Hamilton, New York 13346.

FOR FURTHER INFORMATION CONTACT: Mr. Philip Brito, Manager, New York Airports District Office, 600 Old Country Road, Suite 446, Garden City, New York 11530; telephone (516) 227-3803; FAX (516) 227-3818; E-Mail Philip.Brito@faa.gov.

SUPPLEMENTARY INFORMATION: On April 5, 2000, new authorizing legislation became effective. That bill, the Wendell H. Ford Aviation Investment and Reform Act for the 21st Century, Public Law 10-181 (Apr. 5, 2000; 114 Stat. 61) (AIR 21) requires that a 30 day public notice must be provided before the Secretary may waive any condition imposed on an interest in surplus property.

Issued in Garden City, New York on August 9, 2001.
Philip Brito,
Manager, New York Airports District Office, Eastern Region.

[FR Doc. 01-21171 Filed 8-21-01; 8:45 am]

BILLING CODE 4910-13-M